DEPARTMENT OF EDUCATION

Notice of Submission for OMB Review

AGENCY: Department of Education.

ACTION: Comment Request.

SUMMARY: The Director, Information Collection Clearance Division, Privacy, Information and Records Management Services, Office of Management, invites comments on the submission for OMB review as required by the Paperwork Reduction Act of 1995 (Pub. L. 104-13).

DATES: Interested persons are invited to submit comments on or before January 12, 2012.

ADDRESSES: Written comments should be addressed to the Office of Information and Regulatory Affairs, Attention: Education Desk Officer, Office of Management and Budget, 725 17th Street NW., Room 10222, New Executive Office Building, Washington, DC 20503, be faxed to (202) 395-5806 or emailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: December 8, 2011.
Darrin King,
Director, Information Collection Clearance Division, Privacy, Information and Records Management Services, Office of Management.

Office of Innovation and Improvement

Type of Review: Extension.

Title of Collection: Charter Schools Program Grand Award Database.

OMB Control Number: 1855-0016.

Agency Form Number(s): N/A.

Frequency of Responses: Annually.

Affected Public: State, Local and Tribal Government.

Total Estimated Number of Annual Responses: 40.

Total Estimated Annual Burden Hours: 98.

Abstract: This request is for renewal of Office of Management and Budget approval to collect data necessary for the Charter Schools Program (CSP) Grant Award Database. The CSP is authorized under Title V, Part B, Subpart 1, Sections 5201 through 5211 of the Elementary and Secondary Act (ESEA) of 1965, as amended by the No Child Left Behind Act of 2001. Under Title V, Part B, Section 5205 of the ESEA, the Secretary reserves CSP funds to carry out national activities to provide charter schools with information, to evaluate and study charter schools, and to provide other types of technical assistance. This data collection is coordinated with the EDFacts initiative to reduce respondent burden and fully utilize data submitted by States and available to the U.S. Department of Education (ED) through the Education Data Exchange Network (EDEN). Under the current data collection, ED collects CSP grant award information from grantees (State agencies and some schools) for a database of current CSP-funded charter schools and award amounts; ED merges performance information extracted from the EDEN database with the database of CSP-funded charter schools. Together, these data allow ED to monitor CSP grant performance and analyze data related to accountability for academic performance, financial integrity, and program effectiveness.

Copies of the information collection submission for OMB review may be accessed from the RegInfo.gov Web site at http://www.reginfo.gov/public/do/PRAMain or from the Department's Web site at http://edicsweb.ed.gov, by selecting the “Browse Pending Collections” link and by clicking on link number 4731. When you access the information collection, click on “Download Attachments” to view. Written requests for information should be addressed to U.S. Department of Education, 400 Maryland Avenue SW., LBJ, Washington, DC 20202-4537. Requests may also be electronically mailed to the Internet address ICDocketMgr@ed.gov or faxed to (202) 401-0920. Please specify the complete title of the information collection and OMB Control Number when making your request.

Individuals who use a telecommunications device for the deaf (TDD) may call the Federal Information Relay Service (FIRS) at 1-(800) 877-8339.

[FR Doc. 2011-31949 Filed 12-12-11; 8:45 am]

BILLING CODE 4000-01-P